POSTAL SERVICE

39 CFR Part 111

Standards Governing the Design of Apartment House Mailboxes

AGENCY: Postal Service.

ACTION: Notice of intent to establish a Consensus Committee and notice of first meeting.

SUMMARY: The Postal Service intends to establish a Consensus Committee to develop recommendations for revision of USPS STD 4B, which governs the design of apartment house mailboxes. The committee will develop and adopt its recommendations through a consensus process. The committee will consist of persons who represent the interests affected by the proposed rule, including apartment house type mailbox manufacturers, mailbox distributors, mailbox installers and servicers, postal customers, and apartment house builders, owners and managers. The purpose of this Notice is to apprise the public of the intent to establish the committee; provide the public with information regarding the committee; solicit public comment on the proposal to establish the committee and the proposed membership of the committee; explain how persons may apply or nominate others for membership on the committee; and announce the approximate date of the first committee meeting.

DATES: The Postal Service must receive written comments, requests for representation or membership on the committee, and nominations for membership on the committee no later than February 5, 2003. The first committee meeting is tentatively scheduled for some time during the first two weeks of February 2003.

ADDRESSES: The first committee meeting is tentatively scheduled to be held at U.S. Postal Service Headquarters, 475 L'Enfant Plaza, SW., Washington, DC 20260. Mail comments and all other communications regarding the committee to Jeffery W. Lewis, Room 7142, at the same address. Comments transmitted by fax or email will not be accepted. Committee documents will be available for public inspection and copying between 9 a.m. and 4 p.m. weekdays on the 11th floor at the address above.

FOR FURTHER INFORMATION CONTACT: Jeffery W. Lewis (202) 268-4757.

SUPPLEMENTARY INFORMATION:

I. Background

U.S. Postal Service Standard 4B (USPS STD 4B), Receptacles, Apartment House, Mail, governs the design of apartment house mailboxes. The current standard, adopted in 1975, prescribes design limitations in terms that are no longer consistent with the operational requirements of the Postal Service. Primary issues to be addressed by the committee will include increasing design flexibility within the Postal Service's operational requirements; improving safety and mail security; and replacing existing mailboxes that do not satisfy the requirements of the new standard. The committee may also consider other issues at its discretion and within the scope set forth in paragraph II.

II. Scope of the Rule

The contents of the new standard will consist of regulations on apartment house and office building mailbox design characteristics and the replacement of existing mailboxes that do not satisfy the requirements of the new standard.

III. New and Pending Applications

Beginning on February 5, 2003, the Postal Service will take no further action on new or pending applications for approval of apartment house type mailbox designs, or on applications for modifications to approved apartment house type mailbox designs, until the revision of the standard is complete. This action is consistent with past practice, and is necessary to avoid approving designs under the current standard that may not be permissible under the new standard, or disapproving applications under the current standard that would be approved under the new standard.

IV. Consensus Process

In a consensus process, representatives of interests that would be substantially affected by the new rule meet as an advisory committee to negotiate among themselves and with the agency to reach a consensus on a proposed rule. As part of the consensus process, the agency agrees to use the committee's recommendation as the basis of the proposed rule, and each private interest agrees to support the committee's recommendation and the proposed rule to the extent that it reflects the recommendation.

A feasibility study, performed by a neutral convenor, and using the Negotiated Rulemaking Act, 5 U.S.C. 561 et seq. as a guide, recommended that the Postal Service initiate a consensus process. In reaching this recommendation, the convenor determined that: (1) There is a need for the rule; (2) there are a limited number of identifiable interests significantly impacted by the rule; (3) a committee can be created with balanced representation which can represent the identified interests and can negotiate in good faith; (4) consensus on the issues appears likely; (5) the consensus process will not unduly delay the issuance of the rule; (6) the agency has resources and is willing to assist the consensus process; and (7) the agency, within the constraints of the law, will use the advisory committee's consensus as the basis of the rule for notice and comment.

V. Participants

The committee will include a representative from the Postal Service and representatives, to be selected by the Postal Service, from persons and/or organizations that will be significantly affected by this rule. Each representative may also name an alternate who may attend all committee meetings and will serve in place of the primary representative if necessary. The designated Postal Service representative will be authorized to represent the agency in the committee, and will participate in its activities, discussions, and deliberations.

The convenor has recommended that the Postal Service invite certain organizations to participate in the consensus process. The convenor has contacted these organizations, which have indicated their willingness to serve on the committee. Therefore, the Postal Service proposes to invite the following organizations to participate in the consensus process:

Representing approved apartment house-type mailbox manufacturers:

1. American Eagle Manufacturing Co.

2. American Locker Security Systems

3. Auth-Florence Manufacturing Co.

4. Bommer Industries, Inc.

5. Jensen Industries, Inc.

6. Mail Security

7. Salsbury Industries

Representing apartment house-type mailbox distributors, installers, and servicers:

8. Postal Products, Inc.

Representing management, construction, and consumer interests:

9. Associated Builders & Contractors

10. Association of General Contractors

11. Building Owners & Managers Association International

12. Direct Marketing Association

13. Magazine Publishers of America

14. National Association of Homebuilders

15. National Association of Housing & Redevelopment Officials

16. National Association of Realtors

17. National Multi-Housing Council

18. Parcel Shippers Association

VI. Tentative Schedule

The first committee meeting is tentatively scheduled for some time during the first 2 weeks of February 2003, at U.S. Postal Service Headquarters, 475 L'Enfant Plaza, SW., Washington, DC. Subsequent meetings will be scheduled by the committee, at the same location, and are expected to occur approximately 4 to 6 weeks apart.

VII. Nominations and Applications

Persons and organizations that will be significantly affected by this rule may apply for membership on the committee or nominate another person or organization for membership. Each nomination or application must include: (1) The name of the applicant or nominee and a description of the interests that person or organization represents; (2) evidence that the applicant or nominee is authorized to represent the interests the person proposes to represent; (3) the reasons the applicant or nominator believes its interests or those of its nominee are sufficiently different from the those of organizations listed above that those interests would not be adequately represented by the members of the committee as proposed. All nominations and applications must be received by the Postal Service at the address above no later than February 5, 2003. The Postal Service reserves the right to refuse nominations and applications that do not fulfill these requirements. The Postal Service, with the advice of the convenor, will select committee members that provide adequate representation of each significantly affected interest rather than every individual and organization affected by the rule.

VIII. Procedures and Guidelines

(A) Facilitator

The Postal Service has selected a neutral, impartial facilitator to serve as chairman of the committee meetings. The facilitator will assist committee members conduct discussions; help committee members define issues and reach consensus; and manage the minutes, agendas, and other records of the committee.

(B) Good Faith

Committee members must be committed to negotiate in good faith and be authorized by the individuals and/or organization(s) they represent to do so. Therefore, senior individuals within each interest group should be designated to serve on the committee. Also, committee members must commit to support the final consensus recommendation of the committee.

(C) Administrative Support

Administrative support will be provided by the Postal Service at its headquarters offices.

(D) Consensus

“Consensus” is defined for the purposes of this rulemaking as the unanimous concurrence among the committee members unless the committee explicitly adopts a different definition.

(E) Committee Procedures

Under the general guidance of the facilitator, and subject to legal requirements, the committee will establish procedures and ground rules.

(F) Records

The facilitator will prepare minutes of all committee meetings. These minutes will be available for public inspection and copying as stated above.

Stanley F. Mires,
Chief Counsel, Legislative.

[FR Doc. 03-139 Filed 1-3-03; 8:45 am]

BILLING CODE 7710-12-P